DEPARTMENT OF HEALTH AND HUMAN SERVICES

National Institutes of Health

Preventing Violence and Related Health-Risking Social Behaviors in Adolescents: An NIH State-of-the-Science Conference

AGENCY: National Institutes of Health, DHHS.

ACTION: Notice.

Notice is hereby given of the National Institutes of Health (NIH) conference, “Preventing Violence and Related Health-Risking Social Behaviors in Adolescents: An NIH State-of-the-Science Conference,” to be held October 13-15, 2004, in the NIH Natcher Conference Center, 45 Center Drive, Bethesda, Maryland 20892. The conference will begin at 8:30 a.m. on October 13 and 14, and at 9 a.m. on October 15, and will be open to the public.

From a variety of studies, researchers know that approximately one in five children and adolescents display signs and symptoms of a defined emotional or psychiatric disorder during the course of a year. These signs and symptoms often signal increased risk of problems such as aggression, delinquency, drug abuse, violence, and other health-risking social behaviors that cause substantial difficulties with family and peers, at school and at work.

Many prevention and intervention programs to address violence and related youth behavior problems have developed out of need and have not been rigorously evaluated for their safety and effectiveness. Moreover, interventions with demonstrated effectiveness appear to be underutilized. Research has progressed at a rapid pace; it is now appropriate to assess the state of science with regard to interventions to reduce the risk for youth violence and related behavior problems, as well as to reduce problem behavior once it has been initiated. While research focused on what works is critical, it is equally important to assess what has been learned about interventions that do not work.

During the first day-and-a-half of the conference, experts will present the latest research findings on preventing violence and related health-risking behaviors in adolescents to an independent panel. After weighing all of the scientific evidence, the panel will draft a statement, addressing the following key questions:

—What are the factors that contribute to violence and associated adverse health outcomes in childhood and adolescence?

—What are the patterns of co-occurrence of these factors?

—What evidence exists on the safety and effectiveness of interventions for violence?

—Where evidence of safety and effectiveness exists, are there other outcomes beyond reducing violence? If so, what is known about effectiveness by age, sex, and race/ethnicity?

—What are the commonalities among interventions that are effective and those that are ineffective?

—What are the priorities for future research?

On the final day of the conference, the panel chairperson will read the draft statement to the conference audience and invite comments and questions. A press conference will follow to allow the panel and chairperson to respond to questions from the media.

The primary sponsors of this meeting are the National Institute of Mental Health and the NIH Office of Medical Applications of Research.

Advance information about the conference and conference registration materials may be obtained from American Institutes for Research of Silver Spring, Maryland, by calling (888) 644-2667 or by sending e-mail to preventingviolence@air.org. American Institutes for Research's mailing address is 10720 Columbia Pike, Silver Spring, MD 20901. Registration information is also available on the NIH Consensus Development Program Web site at http://consensus.nih.gov.

Please Note: The NIH has recently instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorssecurity.htm.

Dated: September 23, 2004.
Raynard S. Kington,
Deputy Director, National Institutes of Health.

[FR Doc. 04-21991 Filed 9-29-04; 8:45 am]

BILLING CODE 4140-01-P